LIBRARY OF CONGRESS

Copyright Office

37 CFR Part 256

Adjustment of Royalty Fee for Cable Compulsory License

CFR Correction

In Title 37 of the Code of Federal Regulations, revised as of July 1, 2009, on page 666, in § 256.2, make the following changes:

a. In paragraph (b)(2)(i), remove “$189,800” and add “$263,800” in its place; and

b. In paragraph (b)(2)(ii), remove “$189,800” and add “$263,800” in its place, and remove “$379,600” and add “$527,600” in its place.

[FR Doc. 2010-14060 Filed 6-9-10; 8:45 am]

BILLING CODE 1505-01-D